DEPARTMENT OF HEALTH AND HUMAN SERVICES

Office of the Secretary

Meeting of the Secretary's Advisory Committee on Genetic Testing

AGENCY: Office of the Secretary, DHHS.

ACTION: Notice of meeting.

Pursuant to Public Law 92-463, notice is hereby given of a meeting of the Secretary's Advisory Committee on Genetic Testing (SACGT), U.S. Public Health Service. The meeting will be held at the International Trade Center, Polaris Ballroom, 1300 Pennsylvania Avenue, NW, Washington, DC 20004, starting on February 24, 2000, at approximately 9:00 a.m. and will recess at approximately 5:30 p.m. The meeting will reconvene on February 25, 2000, at approximately 8:00 a.m. and will adjourn at approximately 5:00 p.m. The meeting will be open to the public. Attendance by the public will be limited by the space available. The committee will review public comments received in response to A Public Consultation on Oversight of Genetic Tests published in the Federal Register on December 1, 1999 (64 FR 67273), and work toward the development of final recommendations on the oversight of genetic testing. A limited period of time will be provided for public comment, and individuals interested in participating in the public comment period should contact Ms. Sarah Carr, SACGT Executive Secretary, as shown below.

Under authority of 42 U.S.C. 217a, Section 222 of the Public Health Service Act, as amended, the Department of Health and Human Services (DHHS) established the SACGT to advise and make recommendations to the Secretary through the Assistant Secretary for Health on all aspects of the development and use of genetic tests. The SACGT is directed to: (1) Recommend policies and procedures for the safe and effective incorporation of genetic technologies into health care; (2) assess the effectiveness of existing and future measures for oversight of genetic tests; (3) and identify research needs related to the Committee's purview.

Further information about the SACGT is available at the following web site: http://www4.od.nih.gov/oba/sacgt.htm. If you wish to attend, please register through the web site. A draft meeting agenda will be posted to the web site prior to the meeting. Individuals who wish to provide public comments should notify Ms. Carr, by telephone at 301-496-9838 or E-mail at sc112c@nih.gov as soon as possible and provide a copy of their remarks to Ms. Carr by February 15, 2000. Those who plan to attend the meeting and need special assistance, such as sign language interpretation or other reasonable accommodations, should notify Ms. Carr at 301-496-9838. The SACGT office is located at 6000 Executive Boulevard, Suite 302, Bethesda, Maryland 20892.

Dated: February 3, 2000.
Sarah Carr,
Executive Secretary, SACGT.

[FR Doc. 00-2906 Filed 2-7-00; 8:45 am]

BILLING CODE 4140-01-P